DEPARTMENT OF AGRICULTURE

Forest Service

Northeast Oregon Forests Resource Advisory Committee (MAC)

AGENCY: Forest Service, USDA.

ACTION: Notice of meetings.

SUMMARY: Pursuant to the authorities in the Federal Advisory Committees Act (Pub. L. 92-463), the Northeast Oregon Forests Resource Advisory Committee (RAC) will meet on June 3-4, 2004 in Hines, Oregon. The purpose of the meeting is to discuss the selection of Title II projects under Public Law 106-393, H.R. 2389, the Secure Rural Schools and Community Self-Determination Act of 2000, also called the “Payment to States” Act and tour Title II project sites on the Malheur National Forest.

DATES: The meeting will be held on June 3, 2004 from 9 a.m. to 5 p.m. and June 4, 2004 from 8 a.m. until 3 p.m.

ADDRESSES: The June 3, 2004 meeting will be held a the Comfort Inn Motel conference room, located at N. HWY 20, Hines, Oregon. the June 4, 2004 Title II project tour will start at Comfort Inn, located at N. HWY 20, Hines, Oregon and proceed through the Malheur National Forest.

FOR FURTHER INFORMATION CONTACT: Jennifer Harris, Designated Federal Official, USDA, Malheur National Forest, P.O. Box 909, John Day, Oregon 97845. Phone: (541) 575-3000.

SUPPLEMENTARY INFORMATION: At the June 3 meeting the RAC will review and recommend FY 2005 Title II project proposals, discuss replacement RAC members and re-chartering of the RAC and receive an update of how previous fiscal year projects are progressing. A public comment period will be provided at 11:15 a.m. and individuals will have the opportunity to address the committee at that time. On June 4 the committee will tour the Malheur National Forest and review completed Title II projects.

Dated: May 11, 2004.
Jennifer L. Harris,
Designated Federal Official.

[FR Doc. 04-11076 Filed 5-14-04; 8:45 am]

BILLING CODE 3410-DK-P